DEPARTMENT OF DEFENSE

Department of the Navy

32 CFR Part 751

Personnel Claims Regulations

CFR Correction

In Title 32 of the Code of Federal Regulations, Parts 700 to 799, revised as of July 1, 2012, on page 418, in § 751.6, in paragraph (c)(5), the second sentence is reinstated to read as follows:

§ 751.6 Claims payable.

* * * * *

(c) * * *

(5) * * * Neither the passenger compartment nor the trunk of a vehicle is a proper place for the long-term storage of property unconnected with the use of the vehicle. * * *

* * * * *

[FR Doc. 2013-10965 Filed 5-6-13; 8:45 am]

BILLING CODE 1505-01-D